OFFICE OF THE UNITED STATES TRADE REPRESENTATIVE

Generalized System of Preferences (GSP): Notice of the Results of the 2004 Annual Product Review

AGENCY: Office of the United States Trade Representative.

ACTION: Notice.

SUMMARY: This notice announces the disposition of the product petitions accepted for review in the 2004 GSP Annual Product Review (including self-initiated product reviews) and the results of the 2004 De Minimis Waiver, the 2004 Redesignation, and the 2004 Competitive Need Limitation Reviews.

FOR FURTHER INFORMATION CONTACT: The GSP Subcommittee, Office of the United States Trade Representative (USTR), Room F-220, 1724 F Street, NW., Washington, DC 20508. The telephone number is (202) 395-6971 and the facsimile number is (202) 395-9481.

SUPPLEMENTARY INFORMATION: The GSP program provides for the duty-free importation of designated articles when imported from beneficiary developing countries. The GSP program is authorized by Title V of the Trade Act of 1974 (19 U.S.C. 2461, et seq.), as amended (the “Trade Act”), and is implemented in accordance with Executive Order 11888 of November 24, 1975, as modified by subsequent Executive Orders and Presidential Proclamations.

In the 2004 Annual Review, the GSP Subcommittee of the Trade Policy Staff Committee reviewed petitions to change the product coverage of the GSP. The disposition of those petitions is described in Annex I of this notice.

In the 2004 De Minimis Waiver and Redesignation Review, the GSP Subcommittee evaluated the appraised import values of each GSP-eligible article in 2004 to determine whether an article from a GSP beneficiary developing country exceeded the GSP Competitive Need Limitations (CNLs). Articles that exceeded one of the GSP CNLs in 2004, and that are newly excluded from GSP eligibility for a specific country, are listed in Annex II. Certain articles from GSP-eligible countries that had previously exceeded one of the CNLs, but had fallen below the CNLs in 2004 ($115 million and 50 percent of U.S. imports of the article), were redesignated for GSP eligibility. These articles and countries are listed in Annex III. De minimis waivers were granted to certain articles that exceeded the 50 percent import share CNL but for which the aggregate value of the imports of that article was below the 2004 de minimis level of $17.0 million. Annex IV to this notice contains a list of the articles and the associated countries granted de minimis waivers.

Marideth J. Sandler,
Executive Director, Generalized System of Preferences (GSP) Program, Chairman, GSP Subcommittee.

BILLING CODE 3190-W5-P

[FR Doc. 05-13592 Filed 7-8-05; 8:45 am]

BILLING CODE 3190-W5-C